DEPARTMENT OF DEFENSE

Office of the Secretary

[Docket ID: DoD-2024-OS-0029]

Proposed Collection; Comment Request

AGENCY: Office of the Under Secretary of Defense for Personnel and Readiness (OUSD (P&R)), Department of Defense (DoD).

ACTION: 60-Day information collection notice.

SUMMARY: In compliance with the Paperwork Reduction Act of 1995, the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 3, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Under Secretary of Defense for OUSD(P&R), Office of the Executive Director, 4000 Defense Pentagon, Suite 4B849, Washington, DC 20301, Jessica Levin, (703) 693-9087.

SUPPLEMENTARY INFORMATION:

Title; Associated Form; and OMB Number: Military OneSource Records Request; DD Forms 3126 and 3127; OMB Control Number 0704-MTPR.

Needs and Uses: This collection is needed to standardize the collection of data by the OUSD(P&R) for Military OneSource records access requests, in accordance with the Privacy Act of 1974 (5 U.S.C. 552a) and Freedom of Information Act (5 U.S.C. 552). The OUSD(P&R) utilizes the information provided via this collection to confirm the identity of the requestor, facilitate the timely and accurate identification of the requested records, and ensure written consent for the release of these records is received from all participants.

Affected Public: Individuals or households.

Annual Burden Hours: 87.5.

Number of Respondents: 350.

Responses per Respondent: 1.

Annual Responses: 350.

Average Burden per Response: 15 minutes.

Frequency: As required.

Dated: March 26, 2024.
Aaron T. Siegel,
Alternate OSD Federal Register Liaison Officer, Department of Defense.

[FR Doc. 2024-06927 Filed 4-1-24; 8:45 am]

BILLING CODE 6001-FR-P